DEPARTMENT OF TRANSPORTATION

Federal Aviation Administration

RTCA Special Committee 172; Future Air-Ground Communications in the VHF Aeronautical Data Band (118-137 MHz)

Pursuant to section 10(a)(2) of the Federal Advisory Committee Act (Pub. L. 92-463, 5 U.S.C., Appendix 2), notice is hereby given for Special Committee 172 meeting to be held December 5-7, 2000, starting at 9:00 a.m. The meeting will be held at RTCA, 1140 Connecticut Avenue, NW., Suite 1020, Washington, DC 20036.

The agenda will include: December 5: Plenary Session; (1) Introductory Remarks; (2) Review and Approve Agenda; (3) Working Group-2, AMS(R)S Avionics Equipment MOPS, (WG-2) Convenes to continue work of Minimum Aviation System Performance Standards (MASPS) document; December 6: (4) Working Group-3, AMS(R)S MASPS, (WG-3) Convenes to continue work of VDL 2 and VDL 3 Minimum Operational Performance Standards (MOPS) Document (may convene on Tuesday if WG-2 finishes early); December 7: (5) Plenary reconvenes; (6) Review of ICAO and Aeronautical Mobile Communications Panel (AMCP) activities; (7) Review Working Group activities; (8) Review Standards and Recommended Practices (SARPs) Changes; (9) Other Business; (10) Date and location of Next meeting; (11) Closing. Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on November 13, 2000.
Jancie L. Peters,
Designated Official.

[FR Doc. 00-29663 Filed 11-17-00; 8:45 am]

BILLING CODE 4910-13-M